INTERNATIONAL TRADE COMMISSION

[Investigation No. 337-TA-815]

Certain Projectors With Controlled-Angle Optical Retarders, Components Thereof, and Products Containing Same; Notice of Commission Determination Not To Review an Initial Determination Terminating the Investigation in Its Entirety

AGENCY: U.S. International Trade Commission.

ACTION: Notice.

SUMMARY: Notice is hereby given that the U.S. International Trade Commission has determined not to review the presiding administrative law judge's (“ALJ”) initial determination (“ID”) (Order No. 24) terminating the above-captioned in its entirety based on withdrawal of the complaint.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 25, 2011, based on a complaint filed on October 21, 2011, as supplemented on November 2, 2011, by Compound Photonics Ltd. of London, United Kingdom and Compound Photonics U.S. Corporation of Phoenix, Arizona (collectively “Compound Photonics”). 76 FR 72722-23 (Nov. 25, 2011). The complaint alleges violations of Section 337 of the Tariff Act of 1930, as amended, 19 U.S.C. 1337, in the importation into the United States, the sale for importation, and the sale within the United States after importation of certain projectors with controlled-angle optical retarders, components thereof, and products containing same by reason of infringement of claims of U.S. Patent No. 6,829,027. The complaint further alleges the existence of a domestic industry. The Commission's notice of investigation named as respondents Sony Corporation of Tokyo, Japan; Sony Corporation of America of New York, New York; and Sony Electronics Inc. of San Diego, California. The Office of Unfair Import Investigation was named as a participating party.

On October 17, 2012, Compound Photonics filed a motion to terminate the investigation in its entirety based on withdrawal of the complaint. The motion stated that the respondents do not oppose the motion. On October 19, 2012, the Commission investigative attorney filed a response in support of the motion.

On October 19, 2012, the ALJ issued the subject ID, granting Compound Photonics' motion pursuant to section 210.21(a)(1) of the Commission's Rules of Practice and Procedure (19 CFR 210.21(a)(1)). No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: November 13, 2012.
Lisa R. Barton,
Acting Secretary to the Commission.

[FR Doc. 2012-27914 Filed 11-15-12; 8:45 am]

BILLING CODE 7020-02-P